DEPARTMENT OF COMMERCE

National Oceanic and Atmospheric Administration

RIN 0648-XB157

Marine Mammals; File No. 14856

AGENCY: National Marine Fisheries Service (NMFS), National Oceanic and Atmospheric Administration (NOAA), Commerce.

ACTION: Notice; issuance of permit.

SUMMARY: Notice is hereby given that a permit has been issued to Bruce R. Mate, Ph.D., Hatfield Marine Science Center, Oregon State University, Newport, OR 97365 to conduct research on 78 species of marine mammals for scientific research.

ADDRESSES: The permit and related documents are available for review upon written request or by appointment in the following offices: See SUPPLEMENTARY INFORMATION.

FOR FURTHER INFORMATION CONTACT: Amy Hapeman or Kristy Beard, (301) 427-8401.

SUPPLEMENTARY INFORMATION: On June 1, 2012, notice was published in the Federal Register (77 FR 32571) that a request for a permit to conduct research on marine mammals had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Dr. Mate has been issued a permit that authorizes the take of 66 species of cetaceans and 12 species of pinnipeds in U.S. and international waters worldwide. The purposes of the research are to: (1) Identify migration routes; (2) identify specific feeding and breeding grounds for each species; (3) characterize local movements and dive habits in both feeding and breeding grounds, and during migration; (4) examine the relationships between movements/dive habits and prey distribution, time of day, geographic location, or physical and biological oceanographic conditions; (5) characterize whale vocalizations; and (6) characterize sound pressure levels to which whales are exposed. Researchers are authorized to conduct aerial and vessel surveys to perform a suite of research activities including: observations, biopsy sampling, implantable and suction-cup tagging, photo-identification, behavioral observation, passive acoustic recording, post-tag monitoring, and/or import, receive or export parts. Sixteen threatened or endangered marine mammals may be targeted for research or incidentally harassed during surveys. The request to attach implantable tags to minke (Balaenoptera acutorostrata) and killer whales (Orcinus orca) was denied. The permit expires December 31, 2018.

An environmental assessment (EA) was prepared analyzing the effects of the permitted activities on the human environment in compliance with the National Environmental Policy Act of 1969 (42 U.S.C. 4321 et seq.). Based on the analyses in the EA, NMFS determined that issuance of the permit would not significantly impact the quality of the human environment and that preparation of an environmental impact statement was not required. That determination is documented in a Finding of No Significant Impact, signed on December 16, 2013.

As required by the ESA, issuance of this permit was based on a finding that such permit: (1) Was applied for in good faith; (2) will not operate to the disadvantage of such endangered species; and (3) is consistent with the purposes and policies set forth in section 2 of the ESA.

Documents may be reviewed in the following locations:

Permits and Conservation Division, Office of Protected Resources, NMFS, 1315 East-West Highway, Room 13705, Silver Spring, MD 20910; phone (301) 427-8401; fax (301) 713-0376;

Alaska Region, NMFS, P.O. Box 21668, Juneau, AK 99802-1668; phone (907) 586-7221; fax (907) 586-7249;

West Coast Region, NMFS, 501 West Ocean Blvd., Suite 4200, Long Beach, CA 90802-4213; phone (562) 980-4005; fax (562) 980-4027;

Pacific Islands Region, NMFS, 1601 Kapiolani Blvd., Rm 1110, Honolulu, HI 96814-4700; phone (808) 944-2200; fax (808) 973-2941;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Dated: January 15, 2014.
P. Michael Payne,
Chief, Permits and Conservation Division, Office of Protected Resources, National Marine Fisheries Service.

[FR Doc. 2014-01023 Filed 1-17-14; 8:45 am]

BILLING CODE 3510-22-P